DEPARTMENT OF AGRICULTURE

Black Hills National Forest Advisory Board

AGENCY: USDA Forest Service, Rocky Mountain Region.

ACTION: Black Hills National Forest Advisory Board re-charter.

SUMMARY: The USDA Forest Service is re-chartering the Black Hills National Forest Advisory Board to obtain advice and recommendations on a broad range of forest issues such as forest plan revisions or amendments, travel management, forest monitoring and evaluation, and site-specific projects having forest-wide implications.

FOR FURTHER INFORMATION CONTACT: Frances Reynolds, Legislative Affairs, Rocky Mountain Region, Forest Service, (303) 275-5357.

SUPPLEMENTARY INFORMATION: Pursuant to the Federal Advisory Committee Act (5 U.S.C. App.), notice is hereby given that the U.S. Department of Agriculture Forest Service Black Hills National Forest, is re-chartering the Black Hills National Forest Advisory Board. The Board provides advice and recommendations on a broad range of forest planning issues. The Board membership consists of individuals representing commodity interests, amenity interests, and state and local government.

The Black Hills National Forest Advisory Board has been determined to be in the public interest in connection with the duties and responsibilities of the Black Hills National Forest. National forest management requires improved coordination among the interests and governmental entities responsible for land management decisions and the public that the agency serves. The Board consists of 15 members that represent the following interests (this membership closely follows the membership outlined by the Secure Rural Schools and Community Self Determination Act for Resource Advisory Committees (16 U.S.C. 500, et seq.)):

1. Economic development.

2. Developed outdoor recreation, off-highway vehicle users, or commercial recreation.

3. Energy and mineral development.

4. Commercial timber industry.

5. Permittee (grazing or other land use within the Black Hills area).

6. Nationally recognized environmental organizations.

7. Regionally or locally recognized environmental organizations.

8. Dispersed recreation.

9. Archeology or history.

10. Nationally or regionally recognized sportsmen's groups, such as anglers or hunters.

11. South Dakota elected office.

12. Wyoming elected office.

13. South Dakota or Wyoming county—or local-elected official.

14. Tribal government elected or appointed official.

15. South Dakota or Wyoming state natural resource agency official.

The Board members determine chair responsibility. The Forest Supervisor of the Black Hills National Forest serves as the designated Federal official under sections 10(e) and (f) of the Federal Advisory Committee Act (5 U.S.C. App.).

The Black Hills National Forest provides notices as needed of additional actions that will be taken to complete the Board's function.

Equal opportunity practices are followed in all appointments to advisory committees. To ensure that the recommendations of the Board have been taken into account the needs of diverse groups the Black Hills National Forest serves, membership will include to the extent practicable individuals with demonstrated ability to represent monitories, women, and persons with disabilities.

Dated: December 13, 2004.
Brad Exton,
Acting Forest Supervisor.

[FR Doc. 04-27709 Filed 12-17-04; 8:45 am]

BILLING CODE 3410-11-M